COMMODITY FUTURES TRADING COMMISSION

Sunshine Act Meetings

Agency Holding The Meetings: Commodity Futures Trading Commission.

The following notice of scheduled meetings is published pursuant to the provisions of the Government in the Sunshine Act, Public Law 94-409, 5 U.S.C. 552b.

Times and Dates: The Commission has scheduled three meetings for the following dates:

December 1 from 9:30 a.m. to 5:30 p.m.

December 9 from 9:30 a.m. to 5:30 p.m.

December 16 from 9:30 a.m. to 5:30 p.m.

Place: Three Lafayette Center, 1155 21st St., NW., Washington, DC, Lobby Level Hearing Room (Room 1000).

Status: Open.

Matters To Be Considered: The Commission has scheduled these meetings to consider the issuance of various proposed rules. Agendas for each of the scheduled meetings will be made available to the public and posted on the Commission's Web site at http://www.cftc.gov at least seven (7) days prior to the meeting. In the event that the times or dates of the meetings change, an announcement of the change, along with the new time and place of the meeting will be posted on the Commission's Web site.

Additional Information: Meeting Cancellation.

The Commission has canceled the meeting scheduled for November 30, 2010.

Contact Person For More Information: David A. Stawick, Secretary of the Commission, 202-418-5071.

Sauntia S. Warfield,
Assistant Secretary of the Commission.

[FR Doc. 2010-29357 Filed 11-17-10; 4:15 pm]

BILLING CODE 6351-01-P